DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2008, there were seven applications approved. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of 158.29.

PFC Applications Approved

Public Agency: Jackson Hole Airport Board, Jackson, Wyoming.

Application Number: 08-1 1-C-00-JAC.

Application Type: Impose and use a PFC.

PFC Level: $4.50.

Total PFC Revenue Approved In this Decision: $2,463,191.

Earliest Charge Effective Date: May 1, 2009.

Estimated Charge Expiration Date: February 1, 2012.

Class of Air Carriers Not Required to Collect PFC's:None.

Brief Description of Projects Approved for Collection and Use:

Security improvements.

Acquire and install non-approach control tower equipment.

Noise monitoring system improvements.

Acquire snow removal equipment.

Acquire aircraft rescue and firefighting vehicle.

PFC administration.

Decision Date: April 8, 2008.

For Further Information Contact: Chris Schaffer, Denver Airports District Office, (303) 342-1258.

Public Agency: City of El Paso, Texas.

Application Number: 08-04-C-00-ELP.

Application Type: Impose and use a PFC.

PFC Level: $3.00.

Total PFC Revenue Approved in this Decision: $10,098,221.

Earliest Charge Effective Date: June 1, 2008.

Estimated Charge Expiration Date: July 1, 2010.

Class of Air Carriers Not Required to Collect PFC's:

Part 135 air taxi/commercial operators filing FAA Form 1800-31.

Determination: Approved. Based on information submitted in the public agency's application, the FAA has determined that the proposed class accounts for less than 1 percent of the total annual enplanements at El Paso International Airport.

Brief Description of Projects Approved for Collection and Use:

Extend runway 8R/26L.

Pavement management update.

Modify terminal building baggage makeup.

Reconstruct portions of taxiways H, J, and K.

Administration costs.

Decision Date: April 10, 2008.

For Further Information Contact: Guillermo Villalobos, Texas Airports Development Office, (817) 222-5657.

Public Agency: Port of Port Angeles, Port Angeles, Washington.

Application Number: 08-07-C-00-CLM.

Application Type: Impose and use a PFC.

PFC Level: $3.00.

Total PFC Revenue Approved In This Decision: $191,838.

Earliest Charge Effective Date: March 1, 2009.

Estimated Charge Expiration Date: March 1, 2013.

Class Of Air Carriers Not Required To Collect PFC's:None.

Brief Description of Projects Approved for Collection and Use:

New terminal entrance road.

Safety area property purchase.

Safety area development.

Taxilane development, phase II.

Terminal apron reconstruction.

Runway lighting rehabilitation.

Obstruction identification and removal.

Taxilane development, phase III.

Decision Date: April 14, 2008.

For Further Information Contact: Trang Tran, Seattle Airports District Office, (425) 227-1662.

Public Agency: Metropolitan Washington Airports Authority, Washington, District of Columbia.

Application Number: 07-08-C-00-DCA.

Application Type: Impose and use a PFC.

PFC Level: $4.50.

Total PFC Revenue Approved In This Decision: $124,914,400.

Earliest Charge Effective Date: November 1, 2011.

Estimated Charge Expiration Date: March 1, 2015.

Class Of Air Carriers Not Required To Collect PFC's:

All air taxi/commercial operator-nonscheduled/on-demand air carriers filing FAA Form 1800-31.

Determination: Approved. Based on information submitted in the public agency's application, the FAA has determined that the proposed class accounts for less than 1 percent of the total annual enplanements at Ronald Reagan Washington National Airport (DCA).

Brief Description of Project Partially Approved for Collection at DCA and Use at Washington Dulles International Airport: International arrivals building expansion.

Determination: The FAA was unable to determine the eligibility of work associated with the cost estimate line item “building shell exterior closure.” Therefore, the public agency may not use PFC revenue to pay the costs associated with this line item.

Decision Date: April 16, 2008.

For Further Information Contact: Luis Loarte, Washington Airports District Office, (703) 661-1365.

Public Agency: City of Rock Springs/County of Sweetwater, Rock Springs, Wyoming.

Application Number: 08-03-C-00-RKS.

Application Type: Impose and use a PFC.

PFC Level: $4.50.

Total PFC Revenue Approved In this Decision: $250,000.

Earliest Charge Effective Date: October 1, 2010.

Estimated Charge Expiration Date: September 1, 2012.

Class of Air Carriers Not Required to Collect PFC's: None.

Brief Description of Project Approved for Collection and Use:Terminal building improvements.

Decision Date: April 18, 2008.

For Further Information Contact: Chris Schaffer, Denver Airports District Office, (303) 342-1258.

Public Agency: City of Long Beach, California.

Application Number: 08-04-I-00-LGB.

Application Type: Impose a PFC.

PFC Level: $4.50.

Total PFC Revenue Approved In this Decision: $69,137,000.

Earliest Charge Effective Date: November 1, 2015.

Estimated Charge Expiration Date: September 1, 2025.

Class of Air Carriers Not Required to Collect PFC's: Non-scheduled/on-demand air carriers filing FAA Form 1800-31.

Determination: Approved. Based on information submitted in the public agency's application, the FAA has determined that the proposed class accounts for less than 1 percent of the total annual enplanements at Long Beach/Daugherty Field Airport.

Brief Description of Project Approved for Collection: Terminal area improvements.

Decision Date: April 22, 2008.

For Further Information Contact: Darlene Williams, Los Angeles Airports District Office, (310) 725-3625.

Public Agency: Hualapai Tribe, Peach Springs, Arizona.

Application Number: 08-02-C-00-1G4.

Application Type: Impose and use a PFC.

PFC Level: $3.00.

Total PFC Revenue Approved in this Decision: $9,614,736.

Earliest Charge Effective Date: June 1, 2008.

Estimated Charge Expiration Date: January 1, 2024.

Class of Air Carriers Not Required to Collect PFC's: None.

Brief Description of Projects Approved for Collection And Use:

Design and construct runway 17/35 (phase II).

Design and construct parallel and associated connector taxiways (phase II).

Design and construct access road (phase II).

Design and construct aircraft parking apron including heliports (phase II).

Design and construct parking lots for new terminal facilities.

Aircraft rescue and firefighting vehicle and suits.

Airport layout plan.

Environmental assessment study.

Install airport perimeter fencing.

Acquire snow removal equipment.

Construct equipment storage building.

Design and construct utilities for new airport facilities.

Design and construct new terminal building.

Decision Date: April 23, 2008.

For Further Information Contact: Darlene Williams, Los Angeles Airports District Office, (310) 725-3625.

Amendments to PFC Approvals
Amendment No. city, state | Amendment approved date | Original approved net PFC revenue | Amended approved net PFC revenue | Original estimated charge exp. date | Amended estimated charge exp. date
02-06-C-01-RNO, Reno, NV. | 03/31/08 | $10,000,000 | $10,069,667 | 11/01/03 | 11/01/03
*06-06-C-LBB, Lubbock, TX. | 04/01/08 | 9,731,125 | 14,974,139 | 09/01/13 | 06/01/13
03-09-C-02-CMX, Hancock, MI. | 04/16/08 | 104,266 | 116,682 | 09/01/06 | 11/01/06
96-03-C-03-MEI, Meridian, MS. | 04/17/08 | 250,620 | 66,896 | 06/01/00 | 06/01/00
05-07-C-01-MEl, Meridian, MS. | 04/17/08 | 489,473 | 673,197 | 04/01/08 | 10/01/10
05-08-C-01-MEI, Meridian, MS. | 04/17/08 | 150,000 | 163,380 | 04/01/09 | 10/01/11
04-03-C-01-SHR, Sheridan, WY. | 04/18/08 | 247,309 | 247,183 | 12/01/11 | 08/01/08
01-05-C-02-VLD, Valdosta, GA. | 04/22/08 | 260,826 | 259,079 | 11/01/03 | 11/01/03
03-03-C-01-SGU, St. George, UT. | 04/25/08 | 1,062,000 | 3,515,402 | 10/01/11 | 01/01/16

Note: The amendment denoted by an asterisk (*) includes a change to the PFC level charged from $3.00 per enplaned passenger to $4.50 per enplaned passenger. For Lubbock, TX, this change is effective on June 1, 2008.

Issued in Washington, DC on June 2, 2008.
Joe Hebert,
Manager, Financial Analysis and Passenger Facility Charge Branch.

[FR Doc. E8-12775 Filed 6-9-08; 8:45 am]

BILLING CODE 4910-13-M